DEPARTMENT OF HOMELAND SECURITY

U.S. Citizenship and Immigration Services

[CIS No. 2357-05]

RIN 1615-ZA26

Extension of the Designation of Liberia for Temporary Protected Status; Correction

AGENCY: U.S. Citizenship and Immigration Services, DHS.

ACTION: Notice of correction.

SUMMARY: The U.S. Citizenship and Immigration Services (USCIS) published a notice in the Federal Register on August 16, 2005 at 70 FR 48176 to announce the extension of the designation of Temporary Protected Status (TPS) for nationals of Liberia and aliens having no nationality who last habitually resided in Liberia. The August 16, 2005, notice states that the 60-day re-registration period begins August 16, 2005, and will remain in effect until October 17, 2005, instead of October 14, 2005, which is the 60th day and the date on which the re-registration period actually ends. USCIS hereby corrects the prior notice to show October 14, 2005, as the ending date of the re-registration period.

DATES: This correction is effective August 26, 2005.

FOR FURTHER INFORMATION CONTACT: Susan Kopp Keyack, Residence and Status Services, Office of Program and Regulations Development, U.S. Citizenship and Immigration Services, Department of Homeland Security, 111 Massachusetts Avenue, NW., 3rd floor, Washington, DC 20529, telephone (202) 514-4754.

SUPPLEMENTARY INFORMATION:

Need for Correction

As published in the Federal Register on August 16, 2005 (70 FR 48176), the Notice contains an error that is in need of correction.

Correction of Publication

Accordingly, the publication on August 16, 2005 (70 FR 48176), of the Notice that was the subject of FR Doc. 05-16308 is corrected as follows:

1. On page 48176, in the second column, in the sixth line under DATES, the date “October 17, 2005” is corrected to read: “October 14, 2005”.

2. On page 48177, in the third column, in the first line, the date “October 17, 2005” is corrected to read: “October 14, 2005”.

3. On page 48179, in the second column, in the third line, the date “October 17, 2005” is corrected to read: “October 14, 2005”.

Dated: August 22, 2005.
Stephen Tarragon,
Acting Director, Regulatory Management Division.

[FR Doc. 05-16955 Filed 8-25-05; 8:45 am]

BILLING CODE 4410-10-P